DEPARTMENT OF ENERGY

Federal Energy Regulatory Commission

[Docket No. RM01-12-000]

Electricity Market Design and Structure; Notice of Options Paper

April 10, 2002.

Take notice that the Commission has distributed an options paper for resolving rate and transition issues for standardized transmission service and wholesale electric market design. The purpose of this paper is to stimulate public discussion that can guide the development of a proposed rulemaking on these issues. Parties filing comments are requested to make recommendations on the options that should be included in the proposed rulemaking as well as to address the pros and cons of the various options contained in the paper.

The options paper is being placed in the record of this rulemaking docket. It will also be available on the Commission's website at http://www.ferc.gov/Electric/RTO/mrkt-strct-comments/discussion—paper.htm.

Comments on this paper should be filed with the Commission by May 1, 2002. Comments may be filed in paper format or electronically. For paper filings, the original and 14 copies of the comments should be submitted to the Office of the Secretary, Federal Energy Regulatory Commission, 888 First Street, NE., Washington DC 20426. For electronic filings via the Internet, see 18 CFR 385.2001(a)(1)(iii) (2001) and the instructions on the Commission's web site under the “e-Filing” link. All comments will be placed in the Commission's public files and will be available for inspection in the Commission's Public Reference Room at 888 First Street, NE., Washington, DC 20426, during regular business hours. Additionally, all comments may be viewed, printed, or downloaded remotely via the Internet through FERC's Homepage using the RIMS link. User assistance for RIMS is available at 202-208-2222, or by e-mail to rimsmaster@ferc.gov.

Magalie R. Salas,
Secretary.

[FR Doc. 02-9186 Filed 4-15-02; 8:45 am]

BILLING CODE 6717-01-P